DEPARTMENT OF THE INTERIOR

National Park Service

Kaloko-Honokohau National Historical Park Advisory Commission; Notice of Meeting

Notice is hereby given in accordance with the Federal Advisory Committee Act that a meeting of the Na Hoapili O Kaloko Honokohau, Kaloko-Honokohau National Historical Park Advisory Commission will be held at 9 a.m., September 1, 2006 at the Kona Outdoor Circle.

The agenda will include discussions on the Extension of Commission, Follow Up on April 28 Agenda Items, Live-In Cultural/Education Center, and the Park Project Update.

The meeting is open to the public. Persons requiring special assistance should contact the Superintendent at (808) 329-6881 ext. 7, 7 days prior to the meeting.

Minutes will be recorded for documentation and transcribed for dissemination. Minutes of the meeting will be available to the public after approval of the full Advisory Commission. Transcripts will be available after 30 days of the meeting.

For copies of the minutes, contact Kaloko-Honokohau National Historical Park at (808) 329-6881.

Dated: July 6, 2006.
Geraldine K. Bell,
Superintendent, Kaloko-Honokohau National Historical Park.

[FR Doc. 06-6753 Filed 8-7-06; 8:45 am]

BILLING CODE 4312-GH-M